DEPARTMENT OF HEALTH AND HUMAN SERVICES

Centers for Disease Control and Prevention

Agency for Toxic Substances and Disease Registry

[60Day-03-81]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: ATSDR Market Survey of Priority Populations (0923-0030)—Extension—The Agency for Toxic Substances and Disease Registry (ATSDR) is mandated pursuant to the 1980 Comprehensive Environmental Response, Compensation, and Liability Act (CERCLA) and its 1986 amendments, the Superfund Amendments and Reauthorization Act (SARA), to prevent or mitigate adverse human health effects and diminished quality of life resulting from the exposure to hazardous substances in the environment.

As the agency responsible for determining the nature and extent of health problems at Superfund sites, ATSDR staff conducts public health assessments, health consultations, and health studies that serve as the basis for intervention strategies. ATSDR staff develops and disseminates to the public scientific and technical reports on the health effects of hazardous substances. Additionally, ATSDR staff collaborates with other governmental agencies, external partners, and organizations to create and implement health services, and educational and preventive programs.

ATSDR has designed a quantitative research tool to evaluate the effectiveness of its agency-wide services, products, and programs. The agency received initial OMB approval for this project in 2000 and began to utilize the tool to collect data from priority populations. ATSDR is requesting a three-year extension of the approval on this project. ATSDR plans to analyze responses received to date and make adjustments to the current survey tool. Additionally, ATSDR plans to expand the reach of the survey to more individuals in priority populations.

With this project, ATSDR staff is seeking information from its priority populations to determine their awareness of, access to and utilization of ATSDR products, programs, and services. ATSDR staff also plans to evaluate whether priority populations derived health benefits from its interventions.

ATSDR's priority populations include health department officials, members of national health and environmental organizations, health care providers, and members of communities within two miles of National Priority List sites. Samples of individuals in these priority populations will be selected and asked to answer a questionnaire on two separate occasions within the three-year project. The questionnaire will be designed to use a Web-based electronic form and Computer Assisted Telephone Interviews (CATI) so that respondent burden can be reduced.

ATSDR will use the data from this study to evaluate and improve the effectiveness of its health promotion and intervention activities in communities. This will translate into more effective organizational decisions on resource utilization, improved performance, and assessment of the future direction of the agency. There are no costs to respondents.

Respondents | No. of respondents per year | No. of responses per respondent | Avg. burden per response (in hrs.) | Total annual burden (in hrs.)
Individuals in priority populations | 7,500 | 1 | 20/60 | 2,500

Dated: June 17, 2003.
Nancy E. Cheal,
Acting Director, Office of Program Planning and Evaluation, Centers for Disease Control and Prevention.

[FR Doc. 03-15988 Filed 6-24-03; 8:45 am]

BILLING CODE 4163-18-P